DEPARTMENT OF TRANSPORTATION

Federal Transit Administration

Research, Technical Assistance and Training Programs: Notice of Final Circular

AGENCY: Federal Transit Administration (FTA), DOT.

ACTION: Notice of availability of final circular.

SUMMARY: The Federal Transit Administration (FTA) is issuing Circular 6100.1D to provide comprehensive assistance to grantees on guidance on application procedures and project management responsibilities for FTA's National Research Programs.

DATES: The effective date of this circular is May 1, 2011.

ADDRESSES: A copy of the circular and comments and material received from the public, as well as any documents indicated in the preamble as being available in the docket, are part of docket FTA-2010-0034 and are available for inspection or copying at the Docket Management Facility, U.S. Department of Transportation, 1200 New Jersey Ave., SE., West Building Ground Floor, Room W12-140, Washington, DC between 9 a.m. and 5 p.m., Monday through Friday, except Federal holidays.

You may also review the circular, comments, and supporting documents online through the Federal Document Management System (FDMS) at Web site: http://regulations.gov. Enter the docket number FTA-2010-0034 in the search field. The FDMS is available 24 hours each day, 365 days each year. Electronic submission and retrieval help and guidelines are available under the help section of the Web site.

This notice does not include the final circular. Electronic versions of the final circular will be posted on http://regulations.gov as well as on the FTA Web site http://www.fta.dot.gov. Paper copies of the final circular may be obtained by contacting FTA's Administrative Services Help Desk, at 202-366-4865.

FOR FURTHER INFORMATION CONTACT: Bruce Robinson, Office of Research, Demonstration and Innovation, Federal Transit Administration, 1200 New Jersey Ave., SE., East Building, Fourth Floor, Washington, DC 20590, phone: (202) 366-4052, or e-mail, bruce.robinson@dot.gov; or Linda Sorkin, Office of Chief Counsel, Federal Transit Administration, 1200 New Jersey Ave., SE., East Building, Fifth Floor, Washington, DC 20590, phone: (202) 366-0959, or e-mail, linda.sorkin@dot.gov.

SUPPLEMENTARY INFORMATION:

Table of Contents

I. Overview

II. Chapter-by-Chapter Analysis

A. Chapter I—Introduction and Background

B. Chapter II—Program Overview

C. Chapter III—Application Instructions

D. Chapter IV—Project Administration

E. Chapter V—Financial Management

F. Chapter VI—FTA Oversight

G. Appendices

I. Overview

This notice provides a summary of changes to FTA Circular 6100.1D, Research and Technical Assistance Training Program: Application Instructions and Program Management Guidelines addresses comments received in response to FTA's September 30, 2010 Federal Register publication announcing the availability of the proposed circular (75 FR 60494). The final Circular 6100.1D supersedes FTA Circular 6100.1C. Readers familiar with the former FTA Circular 6100.1C will notice that FTA is proposing a complete reorganization to make this circular consistent with the style of other circulars FTA has updated. Substantive changes in content are discussed in the chapter-by-chapter analysis.

One commenter responded to the notice of availability, asking for several changes.

The commenter requested that FTA allow the public to review and comment on any changes or updates that will be made to the circular. FTA declined this request, as FTA specified in the Amendments to Circular “FTA reserves the right to update the circular without further notice and comment. The intent of this paragraph that if the revision is a result of other guidance and regulations that have gone through notice and comments we do not need to solicit comments again. Another request was to revise the “Key Person” definition to state that the grantee should provide FTA with prior notice of impending staff changes, rather than requiring FTA's prior approval. FTA declined this request as this provision is required by 49 CFR 19.25(c). “For nonconstruction awards, recipients shall request prior approvals from Federal awarding agencies for (2) changes in a key person specified in the application or award document.”

FTA also declined the request to change the “Reporting Requirements” section as the requested modifications to the TEAM system fall outside the scope of this circular. The commenter had requested that FTA modify the TEAM system so that it is not necessary for the Milestone Progress Report to be submitted prior to the Federal Financial Report in order for TEAM to generate a single pdf document including both reports.

Three requests that were suggested by the commenter that were approved in part by FTA included changes to Project Identification, the Final Report and the Disclaimers sections. For the Project Identification section, the commenter suggested that FTA forgo the requirement for a sign on all hardware data, equipment, etc. The language for Project Identification was modified to further refine which equipment the requirement applied to as follows: “The recipient understands and agrees that each tangible product resulting from national research program projects shall contain or include an appropriate sign, designation or notification stating that the project has been financed with Federal assistance provided by the DOT/FTA. Unless determined otherwise in writing from the FTA, this requirement applies to all equipment, prototypes, construction, reports, data, software, Internet pages, or any similar items produced in the course of the Grant Agreement or Cooperative Agreement for the project that are part of the project's deliverables visible to the public, or are made available to other research organizations or public transportation providers. Reports must also include the disclaimer described in Chapter IV, subsection 4.g.”

The commenter suggested that FTA make available a template or sample cover page in the Final Report section of the circular. FTA modified the section as follows: (3) Final Report to Report Organization, Elements and Style. A technical report documenting project performance and results must be submitted to the project manager at the conclusion of the project or subproject. FTA requires all documentation be Section 508 compliant and meet a high standard of organization and clarity of writing. The report must be organized consistent with the specific publication elements and report style guidelines located at http://www.fta.dot.gov/research/program_requirements. Contact the FTA project manager for further information.

The commenter also suggested that FTA include a source for the Standard Form 298 in the Disclaimer section. FTA agree and added the following information to the section “SF 298 is located at: http://www.fta.dot.gov/documents/SF_298.pdf.”

A. Chapter I—Introduction and Background

The first four sections of this chapter are a general introduction to FTA that is proposed to be included in all new and revised program circulars for the orientation of readers new to FTA programs. Section 5 of this chapter sets forth definitions of terms appearing in the proposed circular to ensure a common understanding of terms.

B. Chapter II—Program Overview

Sections 1 and 2 describe the statutory authority and nature of the national research programs and activities for which this circular applies. Section 3 clarifies the project management roles and responsibilities of the recipient and FTA. Section 4 describes civil rights requirements, and Section 5 notes that Federal cross-cutting requirements will apply to these projects.

C. Chapter III—Application Instructions

Chapter III describes application instructions including the use of the Web-based Transportation Electronic Award and Management (TEAM system), the development of pre-applications or white papers, the development of formal applications including project budgets and statements of work, and other application requirements. Section 6 states that FTA may request recipients to participate in Peer Review of applications.

D. Chapter IV—Project Administration

Chapter IV describes project administration requirements. Sections 1 and 2 provide an overview of the post award management process, with a brief description of the application process. Section 3 describes project identification requirements on all equipment, hardware, construction, reports, data or any similar items produced in the course of the project. Section 4 describes reporting requirements, clarifying that all recipients must submit quarterly Federal Financial Reports (FFR) and Milestone Progress Reports (MPR) in TEAM and clarifies the development of Quarterly Narrative Reports. Section 4 also updates guidelines on the Final Report and other major technical report development and clarifies the requirements for electronic copies. Section 4 also clarifies that all FTA-sponsored reports, not just the Final Report, must contain an identification notice acknowledging FTA sponsorship. Section 5 clarifies prior approval requirements and procedures for obtaining prior approval. It clarifies prior approval requirements for transfers of financial assistance between cost categories and permits prior approvals to be requested and granted electronically by authorized officials. Section 6 describes project modifications including budget revisions and amendments. Sections 7, 8, and 9 describe recipient responsibilities for equipment, intangible property, and supplies. Section 10 clarifies the recipient's third party procurement responsibilities. Section 11 describes project close-out procedures. Sections 12 and 13 describe suspension and termination procedures. Section 14 describes responsibilities for record retention.

E. Chapter V—Financial Management

Sections 1-6 describe the proper use and management of Federal assistance including internal controls, non-Federal matching share, the applicable Federal cost principles, indirect costs, and program income. Section 7 describes the annual Single Audit requirements and describes when these may be extended to for-profit organizations. Section 8 clarifies payment procedures requiring all recipients to make requests using the Request of Advance or Reimbursement Standard Form 270 (SF-270), as is current practice.

F. Chapter VI—FTA Oversight

Section 1 is a general description of FTA's oversight program. Section 2 describes FTA's Oversight Programs that FTA may undertake. Section 3 describes the types of reviews that may apply to the FTA recipient or its projects. Section 3 describes the peer review process FTA may request recipients to participate in.

G. Appendices

Appendix A lists all FTA circulars.

Appendix B provides an example of a Quarterly Narrative Report.

Appendix C describes requirements for developing a Cost Allocation Plan.

Appendix D provides instructions for submitting the Request of Advance or Reimbursement (SF-270).

Appendix E provides FTA regional and metropolitan contact information.

Appendix F is the Subject and Location index.

Therese McMillan,
Deputy FTA Administrator.

[FR Doc. 2011-7824 Filed 4-1-11; 8:45 am]

BILLING CODE P